DEPARTMENT OF COMMERCE

Foreign-Trade Zones Board

[S-81-2016]

Foreign-Trade Zone 44—Morris County, New Jersey; Application for Subzone; Givaudan Flavors Corporation. East Hanover, New Jersey

An application has been submitted to the Foreign-Trade Zones (FTZ) Board by the State of New Jersey, Department of State, grantee of FTZ 44, requesting subzone status for the facilities of Givaudan Flavors Company (Givaudan), located in East Hanover. The application was submitted pursuant to the provisions of the Foreign-Trade Zones Act, as amended (19 U.S.C. 81a-81u), and the regulations of the FTZ Board (15 CFR part 400). It was formally docketed on June 3, 2016.

The proposed subzone would consist of the following sites: Site 1 (57.9 acres) 245 Merry Lane, East Hanover; and, Site 2 (1.23 acres) 901 Murray Road, East Hanover. A notification of proposed production activity has been submitted and will be published separately for public comment. The proposed subzone would be subject to the existing activation limit of FTZ 44.

In accordance with the FTZ Board's regulations, Kathleen Boyce of the FTZ Staff is designated examiner to review the application and make recommendations to the Executive Secretary.

Public comment is invited from interested parties. Submissions shall be addressed to the FTZ Board's Executive Secretary at the address below. The closing period for their receipt is July 25, 2016. Rebuttal comments in response to material submitted during the foregoing period may be submitted during the subsequent 15-day period to August 8, 2016.

A copy of the application will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

For further information, contact Kathleen Boyce at Kathleen.Boyce@trade.gov or at (202) 482-1346.

Dated: June 3, 2016.
Elizabeth Whiteman,
Acting Executive Secretary.

[FR Doc. 2016-13919 Filed 6-10-16; 8:45 am]

BILLING CODE 3510-DS-P